ENVIRONMENTAL PROTECTION AGENCY

[FRL-9172-1]

National Environmental Justice Advisory Council; Notification of Public Meeting and Public Comment

AGENCY: Environmental Protection Agency.

ACTION: Notification of public meeting.

SUMMARY: Pursuant to the Federal Advisory Committee Act (FACA), Public Law 92-463, the U.S. Environmental Protection Agency (EPA) hereby provides notice that the National Environmental Justice Advisory Council (NEJAC) will meet on the dates and times described below. All meetings are open to the public. Members of the public are encouraged to provide comments relevant to the specific issues being considered by the NEJAC. For additional information about signing up for public comment, please see SUPPLEMENTARY INFORMATION. Due to limited space, seating at the NEJAC meeting will be on a first-come basis. Pre-registration before July 16 is highly recommended (see FOR FURTHER INFORMATION CONTACT section below for registration details).

DATES: The NEJAC meeting will convene Tuesday, July 27, 2010 from 9 a.m. to 5 p.m.; reconvene Wednesday, July 28, 2010 from 9 a.m. to 5 p.m.; and Thursday, July 29, 2010, from 9 a.m. to 1 p.m. All noted times are Eastern Time.

One public comment session relevant to the specific issues being considered by the NEJAC (see SUPPLEMENTARY INFORMATION) is scheduled for Tuesday, July 27, from 6:30 p.m. to 9:30 p.m. All noted times are Eastern Time. Members of the public who wish to participate in the public comment period are encouraged to pre-register by July 16, 2010.

ADDRESSES: The NEJAC meeting will be held at the Fairfax at Embassy Row Hotel, 2100 Massachusetts Avenue NW., Washington, DC 20008, telephone (202) 293-2100, FAX (202) 736-1420 or toll-free: (888) 364-1200.

FOR FURTHER INFORMATION CONTACT: Questions concerning the meeting should be directed to Mr. Aaron Bell, U.S. Environmental Protection Agency, at 1200 Pennsylvania Avenue, NW., (MC2201A), Washington, DC 20460; by telephone at (202) 564-1044, via e-mail at Bell.Aaron@epa.gov; or by FAX at (202) 501-0936. Additional information about the meeting is available on the following Web site: http://www.epa.gov/environmentaljustice/nejac/meetings.html.

Meeting Registration: Pre-registration by July 16, 2010, for all attendees is highly recommended. To register online, visit the Web site above. Requests for pre-registration forms should be sent to Ms. Estela Rosas, EPA Contractor, APEX Direct, Inc., at 877-773-0779 or meetings@AlwaysPursuingExcellence.com. Non-English speaking attendees wishing to arrange for a foreign language interpreter also may make appropriate arrangements using these numbers.

SUPPLEMENTARY INFORMATION: The Charter of the NEJAC states that the advisory committee shall provide independent advice to the Administrator on areas that may include, among other things, “advice about broad, cross-cutting issues related to environmental justice, including environment-related strategic, scientific, technological, regulatory, and economic issues related to environmental justice.”

The meeting shall be used to receive comments, and to discuss and provide recommendations regarding these primary areas: (1) Federal interagency coordination; (2) integrating environmental justice into EPA's regulatory development process; (3) proposed air emissions rules for power plants; (4) EPA's response to the NEJAC's Goods Movement Report; (5) an update on EPA activities related to the Gulf of Mexico oil spill; and (6) voluntary testing for lead in school drinking water.

A. Public Comment: Individuals or groups making oral presentations during the public comment period will be limited to a total time of five minutes. Only one representative of a community, organization, or group will be allowed to speak. Any number of written comments can be submitted for the record. The suggested format for individuals providing public comments is as follows: Name of Speaker, Name of Organization/Community, City/State, Description of Concern and its Relationship to a Specific Policy Issue(s), and Recommendations or Desired Outcome. Written comments received by July 16, 2010 will be included in the materials distributed to the members of the NEJAC. Written comments received after that date will be provided to the NEJAC as logistics allow. To register for the meeting and sign-up to provide public comments, all information should be sent to the address, e-mail, or fax number listed in the FOR FURTHER INFORMATION CONTACT section above.

B. Information about Services for Individuals with Disabilities: For information about access or services for individuals with disabilities, please contact Ms. Estela Rosas, EPA Contractor, APEX Direct, Inc., at 877-773-0779 or meetings@AlwaysPursuingExcellence.com. To request special accommodations for a disability, please contact Ms. Rosas, at least 10 days prior to the meeting, to give EPA sufficient time to process your request. All requests should be sent to the address, e-mail, or FAX number listed in the FOR FURTHER INFORMATION CONTACT section above.

Dated: June 30, 2010.
Victoria Robinson,
Designated Federal Officer, National Environmental Justice Advisory Council.

[FR Doc. 2010-16526 Filed 7-6-10; 8:45 am]

BILLING CODE 6560-50-P